DEPARTMENT OF JUSTICE

Drug Enforcement Administration

Manufacturer of Controlled Substances; Notice of Withdrawal of Application

By notice dated February 4, 2004, and published in the Federal Register on February 18, 2004 (68 FR 7656), IRIX Pharmaceuticals, Inc., 101 Technology Place, Florence, South Carolina 29501, made application by renewal to the Drug Enforcement Administration (DEA) for registration as a bulk manufacturer of methylphenidate (1724), a basic class of controlled substance listed in Schedule II.

The firm planned to manufacture methylphenidate for sale to its customers.

By letter dated February 18, 2004, IRIX Pharmaceuticals, Inc., requested that its registration as a Schedule II bulk manufacturer be retired. Therefore, IRIX Pharmaceuticals, Inc's renewal application to import the above listed controlled substance is hereby withdrawn.

Dated: March 29, 2004.
William J. Walker,
Deputy Assistant Administrator, Office of Diversion Control, Drug Enforcement Administration.

[FR Doc. 04-9660 Filed 4-28-04; 8:45 am]

BILLING CODE 4410-09-M